NATIONAL AERONAUTICS AND SPACE ADMINISTRATION

[Notice 15-023]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 1, 2015.

FOR FURTHER INFORMATION CONTACT: Robin W. Edwards, Patent Counsel, Langley Research Center, Mail Stop 30, Hampton, VA 23681-2199; telephone (757) 864-3230; fax (757) 864-9190.

NASA Case No.: LAR-18063-1: Nanoparticle Hybrid Composites by RF Plasma Spray Deposition;

NASA Case No.: LAR 18327-1: Stretchable Mesh for Cavity Noise Reduction;

NASA Case No.: LAR-17318-2: Preparation of Metal Nanowire Decorated Carbon Allotropes;

NASA Case No.: LAR-17841-1: High Mobility Transport Layer Structures for Rhombohedral Si/Ge/SiGe Devices;

NASA Case No.: LAR-17951-1: Physiologically Modulating Videogames or Simulations which use Motion-Sensing Input Devices;

NASA Case No.: LAR-18006-2: Process for Nondestructive Evaluation of the Quality of a Crimped Wire Connector;

NASA Case No.: LAR-17996-1: Nanostructure Neutron Converter Layer Development;

NASA Case No.: LAR-17579-2: Wireless Chemical Sensor and Sensing Method for Use Therewith;

NASA Case No.: LAR-17813-1-CON: Methods for Using Durable Adhesively Bonded Joints for Sandwich Structures;

NASA Case No.: LAR-17747-1-CON: Wireless Temperature Sensor having no Electrical Connections and Sensing Method for Use Therewith;

NASA Case No.: LAR-18147-1: Gas Phase Alloying for Wire Fed Joining and Deposition Processes;

NASA Case No.: LAR-18318-1: In-Situ Load System for Calibrating and Validating Aerodynamic Properties of Scaled Aircraft in Ground-Based Aerospace Testing Applications;

NASA Case No.: LAR-17993-2: Locomotion of Amorphous Surface Robots;

NASA Case No.: LAR-16256-1-CON: Method and Apparatus for Performance Optimization Through Physical Perturbation of Task Elements;

NASA Case No.: LAR-18036-1: High Pressure Soft Lithography for Micro-topographical Patterning of Molded Polymers and Composites;

NASA Case No.: LAR-18185-1: Sucrose Treated Carbon Nanotube and Graphene Yarns and Sheets;

NASA Case No.: LAR-17922-1: Double Sided Si(Ge)/Sapphire/III-Nitride Hybrid Structure;

NASA Case No.: LAR-17495-1: An Optical Method for Detecting Displacements and Strains at Ultra High Temperatures during Thermo-Mechanical Testing;

NASA Case No.: LAR-18374-1: Modulated Sine Waves for Differential Absorption Measurements Using a CW Laser System;

NASA Case No.: LAR 17681-3: System for Repairing Cracks in Structures;

NASA Case No.: LAR-18270-1: Airborne Doppler Wind Lidar Post Data Processing Software DAPS-LV;

NASA Case No.: LAR-17919-2: Methods of Making Z-Shielding;

NASA Case No.: LAR-18266-1: Airborne Wind Profiling Algorithm for Doppler Wind Lidar;

NASA Case No.: LAR-18257-1: A Structural Joint with Multi-Axis Load Carrying Capacity;

NASA Case No.: LAR-17502-1-CON: Flame Holder System;

NASA Case No.: LAR-17455-3: A Nanotube Film Electrode and an Electroactive Device Fabricated with the Nanotube Film Electrode and Methods for Making Same.

Sumara M. Thompson-King,
Deputy General Counsel.

[FR Doc. 2015-07457 Filed 3-31-15; 8:45 am]

BILLING CODE 7510-13-P